DEPARTMENT OF AGRICULTURE

Forest Service

36 CFR Part 211

RIN 0596-AB63

Administration; Cooperative Funding; Correction

AGENCY: Forest Service, USDA.

ACTION: Correcting amendment.

SUMMARY: This document contains corrections to the final regulations, which were published in the Federal Register of November 8, 1999 (64 FR 60678). The regulations established the minimum requirements applicable to written agreements between the Forest Service and cooperators, such as individuals, States and local governments, and other non-Federal entities. Additionally, this rulemaking implemented amendments to the Act of June 30, 1914, which expanded the basis for accepting contributions for cooperative work, allows reimbursable payments by cooperators, and adequately protects the Government's interest.

DATES: Effective on October 21, 2008.

FOR FURTHER INFORMATION CONTACT: Patricia S. Palmer, Washington Office Grants and Agreements, (703) 605-4776 or Ken Kessler, Office of Tribal Relations, (202) 205-4972.

SUPPLEMENTARY INFORMATION:

Background

The final regulations that are the subject of these corrections implemented amendments to the Act of June 30, 1914 (16 U.S.C. 498). This Act authorizes the Secretary of Agriculture to receive and subsequently use money as contributions toward cooperative work in forest investigations or for the protection and improvement of the national forests. The rule implemented amendments the Act of June 30, 1914, (16 U.S.C. 498) by: (1) Providing for the use of contributions for cooperative work on the entire National Forest System; (2) Adding “management” to the list of activities for which contributions for cooperative work may be accepted; and (3) Providing specific authority to accomplish cooperative work using Forest Service funds prior to reimbursement by the cooperator pursuant to a written agreement.

Need for Correction

As published, the final regulations do not define adequately the term non-Government cooperator. This term is defined so that non-Government entities can obtain a bond to protect the agency should the non-Government entity owe money to the agency for work performed on their behalf. Non-Government is defined in the negative by listing government entities and making all other entities non-Government. Omitted from the government list are federally recognized Indian tribes which means any Indian Tribe, band, nation, or other organized group or community, and other organizations funding a Forest Service agreement with pass through funding from an entity that is a member, division, or affiliate of a Federal, State, local government, or federally recognized Indian Tribe. This omission leads to inconsistent interpretation and, therefore, requires correction.

List of Subjects in 36 CFR Part 211

Administrative practice and procedure, Fire prevention, Intergovernmental relations, National forests.

Accordingly, 36 CFR part 211 is corrected by making the following correcting amendments:

PART 211—ADMINISTRATION

1. The authority citation for part 211 continues to read as follows:

Authority: 16 U.S.C. 472, 498, 551.

Subpart A—Cooperation

2. Revise § 211.6 paragraph (c) to read as follows:

§ 211.6 Cooperation in forest investigations or the protection, management, and improvement of the National Forest System.

* * * * *

(c) Bonding. Each written agreement involving a non-Government cooperator's total contribution of $25,000 or more to the Forest Service on a reimbursable basis, must include a provision requiring a payment bond to guarantee the cooperator's reimbursement payment. Acceptable security for a payment bond includes Department of the Treasury approved corporate sureties, Federal Government obligations, and irrevocable letters of credit. For the purposes of this section, a non-Government cooperator is an entity that is not a member, division, or affiliate of a Federal, State, local government, a federally recognized Indian Tribe (as defined by the Federally Recognized Indian Tribe List Act of 1994 [25 U.S.C. 479a]), or other organizations funding a Forest Service agreement with pass through funding from an entity that is a member, division, or affiliate of a Federal, State, local government, or federally recognized Indian Tribe.

* * * * *

Dated: September 24, 2008.
Robin L. Thompson,
Associate Deputy Chief, State and Private Forestry.

[FR Doc. E8-25068 Filed 10-17-08; 11:15 am]

BILLING CODE 3410-11-P